DEPARTMENT OF DEFENSE

Department of the Navy

Notice of Intent To Prepare an Environmental Impact Statement for the Disposal and Reuse of the Former Naval Air Station Joint Reserve Base Willow Grove, Horsham, PA, and Notice of Public Scoping Meetings

AGENCY: Department of the Navy, DoD.

ACTION: Notice.

SUMMARY: Pursuant to Section 102(2)(c) of the National Environmental Policy Act (NEPA) of 1969, as implemented by the Council on Environmental Quality regulations (40 CFR parts 1500-1508), the Department of the Navy (DoN) announces its intent to prepare an Environmental Impact Statement (EIS) to evaluate the potential environmental consequences of the disposal and reuse of the former Naval Air Station Joint Reserve Base (NAS JRB) Willow Grove, Horsham, Pennsylvania, per Public Law 101-510, the Defense Base Closure and Realignment Act of 1990, as amended in 2005 (BRAC Law). Potential impacts associated with reuse of NAS JRB Willow Grove, including the change in land use and traffic patterns, will be evaluated and will contribute to the alternatives considered.

DATES: The DoN will conduct public scoping meetings in Horsham Township in Montgomery County, PA to receive comments on the environmental concerns that should be addressed in the EIS. Both public scoping open houses will be held at the Horsham Township Community Center located at 1025 Horsham Road, Horsham, PA. Schedule will be as follows:

1. Open House: Thursday, December 13, 2012, 4:00 p.m.-8:00 p.m.

2. Open House: Friday, December 14, 2012, 10:00 a.m.-2:00 p.m.

The previously announced public scoping meetings scheduled for October 29 and October 30, 2012 were cancelled due to Hurricane Sandy.

FOR FURTHER INFORMATION CONTACT: Director, BRAC Program Management Office Northeast, 4911 Broad Street, Building 679, Philadelphia, PA 19112-1303, telephone 215-897-4900, fax 215-897-4902, email: david.drozd@navy.mil.

SUPPLEMENTARY INFORMATION: The Base Closure and Realignment (BRAC) Commission was established by Public Law 101-510, the BRAC Law, to recommend military installations for realignment and closure. Recommendations of the 2005 BRAC Commission were included in a report presented to the President on September 8, 2005. The President approved and forwarded this report to Congress on September 16, 2005, which became effective as public law on November 9, 2005, and must be implemented in accordance with the requirements of the BRAC Law. In 2005, NAS JRB Willow Grove, PA was designated for closure under the authority of the Defense Base Closure and Realignment Act of 1990, Public Law 101-510, as amended (the Act). Pursuant to this designation, on January 8, 2010, land and facilities at this installation were declared excess to the DoN and made available to other DoD components and other Federal agencies. The DoN has evaluated all timely Federal requests and made a decision to close the former NAS JRB Willow Grove on September 15, 2011.

The proposed action for this EIS is to accommodate the BRAC 2005 law. The BRAC-directed action includes disposal and reuse of NAS JRB Willow Grove and its excess properties. Upon completion of the disposal, the property will be redeveloped in accordance with the Horsham Township Authority (HLRA) Redevelopment Plan.

The EIS will consider the alternatives that are reasonable to accomplish the proposed action. Alternatives to be considered include: (1) Disposal of the property by the DoN and reuse in accordance with the HLRA's Preferred Land Use Plan; (2) Disposal of the property by the DoN with a higher-density reuse scenario; (3) Disposal of the property by the DoN and reuse as an airport; and (4) No Action in which the DoN would retain the property in a caretaker status and no reuse or development would occur.

Alternative 1 would meet the requirements of the BRAC Law by allowing for the disposal and reuse of NAS JRB Willow Grove. Reuse would be conducted in accordance with the HLRA Plan. The Plan provides a mix of land uses based on existing conditions on the installation and in the community, guiding principles for development established by the HLRA, and public participation. It is anticipated that full build-out of the Plan would be implemented over a 20-year period. The Reuse Plan calls for the development of approximately 444 acres (52%) of the total base property. In addition, approximately 418 acres (48%) would be dedicated to a variety of active and passive land uses, including recreation, open space, and natural areas. The plan also incorporates elements based on smart-growth principles, including pedestrian-friendly transportation features (e.g., walkable neighborhoods, bike lanes, and compact development), open spaces, and a mix of land use types.

Alternative 2 would also meet the requirements of the BRAC Law by allowing for disposal and reuse of NAS JRB Willow Grove. This alternative features a higher density of residential and community mixed-use development. Similar to Alternative 1, this alternative includes a mix of land use types, preserves open space and natural areas, and incorporates elements based on smart-growth principles, including pedestrian-friendly transportation and compact development. It is anticipated that full build-out of the higher-density scenario would be implemented over a 20-year period. The higher density alternative calls for the development of approximately 576 acres (67%) of the total base property. In addition, approximately 280 acres (32%) of the base would be dedicated to a variety of active and passive land uses, including recreation, open space, and natural areas.

Alternative 3 would maintain and reuse the existing airfield for private aviation purposes. The plan reuses the existing airfield and its supporting infrastructure (i.e., taxiways, parking aprons and hangar facilities). After accounting for the area being reused for aviation purposes, the remaining land available for development would be approximately 380 acres. This would be developed in a mix of land use types and densities, and preserves open space and natural areas. New development would be airport related industry and businesses.

Alternative 4 is required by NEPA and is the No Action Alternative. Under this alternative, NAS JRB Willow Grove would be retained by the U.S. government in caretaker status. No reuse or redevelopment would occur at the facility.

The EIS will address potential direct, indirect, short-term, long-term, and cumulative impacts on the human and natural environments, including potential impacts on topography, geology and soils, water resources, biological resources, air quality, noise, infrastructure and utilities, traffic, cultural resources, land use, socioeconomics, environmental justice, and waste management. Known areas of concern associated with the BRAC action include impacts on socioeconomics due to loss of the military and civilian workforce, impacts on local traffic patterns resulting from reuse scenarios, and the clean-up of installation remediation sites.

The DoN is initiating the scoping process to identify community concerns and issues that should be addressed in the EIS. Agencies and the public are encouraged to provide written comments at scheduled public scoping meetings. Comments should clearly describe specific issues or topics that the EIS should address. Written comments must be postmarked or emailed by midnight December 31, 2012, and should be sent to: Director, BRAC Program Management Office Northeast, 4911 South Broad Street, Building 679, Philadelphia, PA 19112-1303, telephone 215-897-4900, fax 215-897-4902, email: david.drozd@navy.mil.

Requests for special assistance, sign language interpretation for the hearing impaired, language interpreters, or other auxiliary aids for scheduled public scoping meetings must be sent by mail or email by November 30, 2012, to Mr. Matt Butwin, Ecology and Environment, Inc., 348 Southport Circle, Suite 101, Virginia Beach, Virginia, 23452, telephone 757-456-5356, ext. 2811, email: MButwin@ene.com.

Dated: November 16, 2012.
C.K. Chiappetta,
Lieutenant Commander, Office of the Judge Advocate General, U.S. Navy, Federal Register Liaison Officer.

[FR Doc. 2012-28408 Filed 11-21-12; 8:45 am]

BILLING CODE 3810-FF-P